DEPARTMENT OF COMMERCE

International Trade Administration

[C-580-882]

Certain Cold-Rolled Steel Flat Products From the Republic of Korea: Correction to the Opportunity To Request Administrative Review Notice

AGENCY: Enforcement and Compliance, International Trade Administration, Department of Commerce.

FOR FURTHER INFORMATION CONTACT: Brian Davis, AD/CVD Operations, Office VI, Enforcement and Compliance, International Trade Administration, U.S. Department of Commerce, 14th Street and Constitution Avenue NW., Washington, DC 20230; telephone: (202) 482-7924.

SUPPLEMENTARY INFORMATION:

Background

On September 1, 2017, the Department published its opportunity to request administrative review of antidumping or countervailing duty orders, findings, or suspended investigations, as appropriate, for the September 2017 anniversary month.¹ The Initiation Notice included a reference to the countervailing duty order on certain cold-rolled steel flat products from the Republic of Korea, and identified the period of review for that order as July 1, 2016, through December 31, 2016.² However, the correct period of review is July 29, 2016, through December 31, 2016. The Department is hereby correcting the Initiation Notice to address this error. This correction to the notice of initiation of administrative review is issued and published in accordance with sections 751(a) and 777(i)(1) of the Tariff Act of 1930, as amended.

¹ See Antidumping or Countervailing Duty Order, Finding, or Suspended Investigation; Opportunity to Request Administrative Review, 82 FR 41595 (September 1, 2017) (Initiation Notice).

² Id. at 41597.

Dated: September 12, 2017.
James Maeder,
Senior Director performing the duties of Deputy Assistant Secretary for Antidumping and Countervailing Duty Operations.

[FR Doc. 2017-19770 Filed 9-15-17; 8:45 am]

BILLING CODE 3510-DS-P